DEPARTMENT OF DEFENSE

Department of the Army

Advisory Committee on Arlington National Cemetery Meeting Notice

AGENCY: Department of the Army, DoD.

ACTION: Notice of open committee meeting.

SUMMARY: The Department of the Army is publishing this notice to announce the following Federal Advisory Committee meeting of the Advisory Committee on Arlington National Cemetery (ACANC). This meeting is open to the public via virtual media. For more information, please visit: http://www.arlingtoncemetery.mil/About/Advisory-Committee-on-Arlington-National-Cemetery/ACANC-Meetings.

DATES: The full Advisory Committee on Arlington National Cemetery (ACANC) will meet on Monday, November 7, 2022 from 1 p.m. to 4 p.m., eastern standard time, and Tuesday, November 8, 2022 from 8 a.m. to 2 p.m., eastern standard time.

FOR FURTHER INFORMATION CONTACT: Mr. Matthew Davis; Alternate Designated Federal Officer for the Committee, in writing at Arlington National Cemetery, Arlington VA 22211, or by email at matthew.r.davis.civ@army.mil, or by phone at 1-877-907-8585.

SUPPLEMENTARY INFORMATION: This meeting is being held under the provisions of the Federal Advisory Committee Act of 1972 (5 U.S.C., appendix, as amended), the Sunshine in the Government Act of 1976 (5 U.S.C. 552b, as amended) and 41 Code of the Federal Regulations (41 CFR 102-3.150).

Purpose of the Meeting: The Advisory Committee on Arlington National Cemetery is an independent Federal advisory committee chartered to provide the Secretary of the Army independent advice and recommendations on Arlington National Cemetery, including, but not limited to, cemetery administration, the erection of memorials at the cemetery, and master planning for the cemetery. The Secretary of the Army may act on the Committee's advice and recommendations.

Agenda: The Committee will receive a briefing on the year in review of Arlington National Cemetery; review the status of the Southern Expansion Project currently underway, to include the process of road naming; receive an update on the DoD Naming Commission report as it relates to Arlington National Cemetery, review a request for the formal renaming of the Women in Military Service of America Memorial; review a Commemorative Works proposal for the Protestant Chaplains monument and Chaplains Hill as it relates to Public Law 117-81, section 584; receive a briefing on the current burial demand and capacity challenges impacting the life of the cemetery, receive a brief on the outreach and education initiatives at Arlington National Cemetery, and receive a briefing on the wait-times for interment/inurnment at Arlington National Cemetery.

Public's Accessibility to the Meeting: Pursuant to 5 U.S.C. 552b and 41 CFR 102-3.140 through 102-3.165, this meeting is open to the public. Contact Mr. Matthew Davis at matthew.r.davis.civ@army.mil to register to attend any of these meetings. Public attendance will be via virtual attendance. To attend any of these events, submit your full name, organization, email address, and phone number to Matthew Davis at email address matthew.r.davis.civ@army.mil. Upon receipt of this information, a link will be sent to the email address provided which will allow virtual attendance to the event. Requests to attend the meetings must be received by 5p.m., eastern standard time, on Monday, 31 October 2022. (ANC will be unable to provide technical assistance to any user experiencing technical difficulties.)

For additional information about public access procedures, contact Mr. Matthew Davis, the subcommittee's Alternate Designated Federal Officer, at the email address or telephone number listed in the FOR FURTHER INFORMATION CONTACT section.

Written Comments and Statements: Pursuant to 41 CFR 102-3.105(j) and 102-3.140 and section 10(a)(3) of the Federal Advisory Committee Act, the public or interested organizations may submit written comments or statements to the Subcommittees and/or the Committee in response to the stated agenda of the open meeting or in regard to the Committee's mission in general. Written comments or statements should be submitted to Mr. Matthew Davis, the Alternate Designated Federal Officer, via electronic mail, the preferred mode of submission, at the address listed in the FOR FURTHER INFORMATION CONTACT section. Each page of the comment or statement must include the author's name, title or affiliation, address, and daytime phone number. Written comments or statements being submitted in response to the agenda set forth in this notice must be received by the Designated Federal Officer at least seven business days prior to the meeting to be considered by the Committee. The Designated Federal Officer will review all timely submitted written comments or statements with the Committee Co-Chairs, and ensure the comments are provided to all members of the Committee before the meeting. Written comments or statements received after this date may not be provided to the Committee until its next meeting. Pursuant to 41 CFR 102-3.140d, the Committee is not obligated to allow any member of the public to speak or otherwise address the Committee during the meeting. Members of the public will be permitted to make verbal comments during these meetings only at the time and in the manner described below. If a member of the public is interested in making a verbal comment at the open meeting, that individual must submit a request, with a brief statement of the subject matter to be addressed by the comment, at least three (3) business days in advance to the Committee's Designated Federal Officer, via electronic mail, the preferred mode of submission, at the addresses listed in the FOR FURTHER INFORMATION CONTACT section. The Designated Federal Officer will log each request, in the order received, and in consultation with the Co-Chairs determine whether the subject matter of each comment is relevant to the missions and/or the topics to be addressed in these public meeting. Members of the public who have requested to make a comment and whose comments have been deemed relevant under the process described above, will be invited to speak in the order in which their requests were received by the Designated Federal Officer. The Co-Chairs may allot a specific amount of time for comments.

James W. Satterwhite, Jr.,
Army Federal Register Liaison Officer.

[FR Doc. 2022-22895 Filed 10-20-22; 8:45 am]

BILLING CODE 3711-02-P